DEPARTMENT OF HEALTH AND HUMAN SERVICES

Health Resources and Services Administration

[OMB No. 0915-0378]

Agency Information Collection Activities: Submission to OMB for Review and Approval; Public Comment Request; Information Collection Title: Nurse Faculty Loan Program (NFLP)—Program Specific Data Form; Revision

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than May 25, 2017.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: When submitting comments or requesting information, please include the information request collection title for reference, in compliance with Section 3506(c)(2)(A) of the Paperwork Reduction Act of 1995.

Information Collection Request Title: Nurse Faculty Loan Program (NFLP)—Program Specific Data Form, OMB No. 0915-0378—Revision.

Abstract: This clearance request is for continued approval of the Nurse Faculty Loan Program (NFLP) revised Program Specific Data Form. HRSA is streamlining the data collection form by making the following changes:

• Line Item D will be renamed “D1. NFLP Loan Fund Balance/Unused Accumulation.”

• Addition of Line Item D2 titled “NFLP Loan Fund Default Rate,” requesting information regarding the status of an institution's default rate.

• Addition of Line Item D3 titled “Last NFLP Student Loan Award,” requesting information regarding the disbursement of NFLP loan funds within the last 2 academic years.

• Line Item E2 Column Header will be renamed “E.2 NFLP Enrollees Information by Degree—New Students Expected to Request NFLP Support.”

• Under Section B of instructions, “other attachments” will be updated to reflect the current list of NFLP Funding Opportunity Announcement attachments.

Need and Proposed Use of the Information: The NFLP—Program Specific Data Form is a required electronic attachment within the NFLP application materials. The data provided in the form is essential for the formula-based criteria used to determine the award amount to the applicant schools. Continued approval of the revised NFLP—Program Specific Data Form allows HRSA to efficiently capture data to generate the formula-based award and facilitates reporting on the use of funds and analysis of program outcomes.

The addition of Line Item D2, NFLP Loan Fund Default Rate, will allow HRSA to easily assess and consider an existing performance standard for those applicants with existing NFLP loan accounts. Used in combination with an existing NFLP institution's self-reported NFLP loan balance, the addition of Line Item D3, Last NFLP Student Loan Award, will allow HRSA to assess the loan fund activity (i.e., incidence of loans to students) of an existing NFLP institution applying for additional funding.

Likely Respondents: NFLP eligible applicants. This includes accredited schools of nursing offering eligible advanced masters and/or doctoral degree nursing education programs that will prepare students to serve as qualified nursing faculty.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information.

The total burden for this revised form has decreased by 480 hours due to an estimated decrease in number of respondents. The total annual burden hours estimated for this ICR are summarized in the table below.

Total Estimated Annualized Burden—Hours
Form name | Number of respondents | Number of responses per respondent | Total responses | Average burden per response (in hours) | Total burden hours
NFLP—Program Specific Data Form | 90 | 1 | 90 | 8 | 720
Total Burden | 90 |  | 90 |  | 720

Jason E. Bennett,
Director, Division of the Executive Secretariat.

[FR Doc. 2017-08295 Filed 4-24-17; 8:45 am]

BILLING CODE 4165-15-P